DEPARTMENT OF TRANSPORTATION

National Highway Traffic Safety Administration

[Docket No. NHTSA-2005-20545; Notice 1]

IC Corporation, Receipt of Petition for Decision of Inconsequential Noncompliance

IC Corporation (IC) has determined that certain school buses that it manufactured in 2001 through 2004 do not comply with S5.2.3.2(a)(4) of 49 CFR 571.217, Federal Motor Vehicle Safety Standard (FMVSS) No. 217, “Bus emergency exits and window retention and release.” IC has filed an appropriate report pursuant to 49 CFR part 573, “Defect and Noncompliance Reports.”

Pursuant to 49 U.S.C. 30118(d) and 30120(h), IC has petitioned for an exemption from the notification and remedy requirements of 49 U.S.C. chapter 301 on the basis that this noncompliance is inconsequential to motor vehicle safety.

This notice of receipt of IC's petition is published under 49 U.S.C. 30118 and 30120 and does not represent any agency decision or other exercise of judgment concerning the merits of the petition.

Affected are a total of approximately 40 school buses manufactured from August 15, 2001 to September 29, 2004. S5.2.3.2(a)(4) of FMVSS No. 217 states “No two side emergency exit doors shall be located, in whole or in part, within the same post and roof bow panel space.” The noncompliant vehicles have two side emergency exit doors located opposite each other within the same post and roof bow panel space.

IC believes that the noncompliance is inconsequential to motor vehicle safety and that no corrective action is warranted. IC states that NHTSA's main purpose in updating FMVSS No. 217 was,

to ensure that emergency exit capability would be proportional to the maximum occupant capacity; to improve access to side emergency doors; to improve visibility of exits; and to facilitate the exiting of occupants from a bus after an accident * * *. None of these primary objectives were compromised on the 40 units covered by this petition.

IC states that it reviewed comments in response to the NPRM to update FMVSS No. 217 and determined that they

* * * were related to the fatigue strength of a bus body of this configuration. IC Corporation was unable to find comments relating to the safe exit of occupants in the event of an accident as a result of this door arrangement. Based on this background, IC Corporation presents arguments for consideration regarding both the structural and safety aspects of the rule. Finally, we present bus customer feedback based on interviews conducted with some of the bus customers affected by this non-compliance.

IC further states that it is “not aware of any research that indicates that emergency exits should not be located across from each other for safety of egress reasons alone.” IC says it believes the requirement for two exits doors located across from each other in the same post and roof bow appears “to all be related to the issue of the structural integrity of a bus body of this configuration.”

IC indicates that it “has no reports of any failures of panels or the structure in the area of the left or right emergency doors” of the noncompliant vehicles. Nor has IC received failure reports of panels or the structure for two other types of buses it manufactures. It describes these two other types of buses. One is “commercial buses with a passenger door centered on the right side of the bus and large double bow windows on the left side within the same post and roof bow panel space.” Another is buses with “the combination of a left side emergency door on the left side and a wheelchair door on the right side within the same post and roof bow panel space.” IC further asserts that “NHTSA does not restrict other combinations of doors and windows within the same roof bow space.”

IC states that it is willing to extend to the owners of the noncompliant vehicles a 15-year warranty for any structural or panel failures related to the location of the doors, so that “corrections could be made long before any possible fatigue problems * * * progress into major structural issues.”

The petitioner also describes discussions regarding the noncompliant vehicles with a New York State official who is “involved in compliance with the State regulations and product issues” and owners with multiple units in VA, TX and CA. IC says that the New York official supports granting this petition and the other owners prefer the warranty remedy.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: April 22, 2005.

Authority: 49 U.S.C. 30118, 30120: delegations of authority at CFR 1.50 and 501.8.

Issued on: March 3, 2005.
Ronald L. Medford,
Senior Associate Administrator for Vehicle Safety.

[FR Doc. 05-5761 Filed 3-22-05; 8:45 am]

BILLING CODE 4910-59-P